DEPARTMENT OF TRANSPORTATION

Federal Railroad Administration

[Docket No. FRA 2013-0002-N-12]

Agency Information Collection Activities; Comment Request

AGENCY: Federal Railroad Administration, DOT.

ACTION: Notice.

SUMMARY: In accordance with the Paperwork Reduction Act of 1995 and its implementing regulations, the Federal Railroad Administration (FRA) hereby announces that it is seeking re-approval of the following information collection activities that were previously approved by OMB under Emergency Clearance Procedures. Before submitting these information collection requirements for clearance by the Office of Management and Budget (OMB), FRA is soliciting public comment on specific aspects of the activities identified below.

DATES: Comments must be received no later than July 29, 2013.

ADDRESSES: Submit written comments on any or all of the following proposed activities by mail to either: Mr. Robert Brogan, Office of Safety, RRS-21, Federal Railroad Administration, 1200 New Jersey Ave. SE., Mail Stop 17, Washington, DC 20590, or Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number 2130-___.” Alternatively, comments may be transmitted via facsimile to (202) 493-6216 or (202) 493-6497, or via email to Mr. Brogan at Robert.Brogan@dot.gov, or to Ms. Toone at Kim.Toone@dot.gov. Please refer to the assigned OMB control number and the title of the information collection in any correspondence submitted. FRA will summarize comments received in response to this notice in a subsequent notice and include them in its information collection submission to OMB for approval.

FOR FURTHER INFORMATION CONTACT: Mr. Robert Brogan, Office of Safety, RRS-21, Federal Railroad Administration, 1200 New Jersey Ave. SE., Mail Stop 17, Washington, DC 20590 (telephone: (202) 493-6292) or Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, § 2, 109 Stat. 163 (1995) (codified as revised at 44 U.S.C. 3501-3520), and its implementing regulations, 5 CFR Part 1320, require Federal agencies to provide 60-days notice to the public for comment on information collection activities before seeking approval of such activities by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) reduce reporting burdens; (ii) ensure that it organizes information collection requirements in a “user friendly” format to improve the use of such information; and (iii) accurately assess the resources expended to retrieve and produce information requested. See 44 U.S.C. 3501.

Below is a brief summary of the information collection activities that FRA will submit for renewed clearance by OMB as required under the PRA:

Title: Notice of Funding Availability and Solicitation of Applications for Grants under the Railroad Safety Technology Grant Program.

OMB Control Number: 2130-0587.

Abstract: The Rail Safety Technology Program is a newly authorized program under the Rail Safety Improvement Act of 2008 (RSIA) (Pub. L. 110-432; October 16, 2008). The program was directed by Congress and passed into law in the aftermath of a series of major rail accidents that culminated in an accident at Chatsworth, California, in 2008. Twenty-five people were killed and 135 people were injured in the Chatsworth accident. This event turned the Nation's attention to rail safety and the possibility that new technologies, such as PTC, could prevent such accidents in the future. The RSIA ordered installation of PTC by all Class I railroads on any of their mainlines carrying poisonous inhalation hazard (PIH) materials and by all passenger and commuter railroads on their main lines not later than December 31, 2015.

As part of the RSIA, Congress provided $50 million to FRA to award, in one or more grants, to eligible projects by passenger and freight rail carriers, railroad suppliers, and State and local Governments. Although no funds are available for FY 2014, funds were awarded to seven projects that have a public benefit of improved railroad safety and efficiency, with priority given to projects that make PTC technologies interoperable between railroad systems; projects that accelerate the deployment of PTC technology on high-risk corridors, such as those that have high volumes of hazardous material shipments; and for projects over which commuter or passenger trains operate, or that benefit both passenger and freight safety and efficiency.

Funds provided under this grant program could constitute a maximum of 80 percent of the total cost of a selected project, with a minimum of 20 percent of costs funded from other sources. The funding provided under these grants is being made available to grantees on a reimbursement basis. Funding made available through grants provided under this program, together with funding from other sources that is committed by a grantee as part of a grant agreement, needs to be sufficient to complete the funded project and achieve the anticipated technology development. FRA expects that the seven projects awarded grants will be completed over the next three years. FRA is continuing to collect information from grantees until all seven projects have been completed.

Form Number(s): FRA F 6180.146; SF-269; SF-270.

Affected Public: Businesses.

Respondent Universe: 7 Railroads.

Frequency of Submission: On occasion.

Reporting Burden:

Grant program | Respondent universe | Total annual responses | Average time per response | Total annual burden hours
Meeting requests with FRA Associate Administrator (FRA) | 7 Railroads/Grant Awardees | 7 meeting requests | 30 minutes | 4
Face to Face Meetings with Associate Admin. (FRA) | 7 Railroads/Grant Awardees | 7 project meetings | 2 hours | 14
Revisions to Grant Applications (HHS) | 7 Railroads/Grant Awardees | 7 grant application revisions | 40 hours | 280
Execution Process (Progress Reports) (FRA) | 7 Railroads/Grant Awardees | 84 progress reports | 1 hour | 84
Close-Out Procedures:
Close Out Documents (HHS) | 7 Railroads/Grant Awardees | 7 close-out documents | 4 hours | 28
Final Technical Reports (FRA) | 7 Railroads/Grant Awardees | 7 reports | 80 hours | 560

Total Responses: 119.

Estimated Total Annual Burden: 970 hours (FRA Burden = 662 hours; HHS Burden = 308 hours).

Status: Re-Approval under Regular Clearance Procedures.

Title: State Highway-Rail Grade Crossing Action Plans.

OMB Control Number: 2130-0589.

Abstract: Section 202 of the Rail Safety Improvement Act (RSIA) of 2008 required the Secretary of Transportation (delegated to the Federal Railroad Administrator by 49 CFR 1.49) to identify the 10 States that have had the most-highway-rail grade crossing collisions, on average, over the past three years, and to require those States to develop State highway-rail grade crossing action plans, within a reasonable period of time, as determined by the Secretary. Section 202 of the law further provided that these plans must identify specific solutions for improving safety at crossings, including highway-rail grade crossing closures or grade separations, and must focus on crossings that have experienced multiple accidents or are at high risk for such accidents.

Section 202 also provided the following: The Secretary will provide assistance to the States in developing and carrying out such plans, as appropriate; the plans may be coordinated with other State or Federal planning requirements; the plans will cover a period of time determined to be appropriate by the Secretary; and the Secretary may condition the awarding of any grants under 49 U.S.C. 20158, 20167, or 22501, to a State identified under this section, on the development of such State's plan.

Lastly, Section 202 provided a review and approval process under which, not later than 60 days after the Secretary receives such a State action plan, the Secretary must review and either approve or disapprove it. In the event that the proposed plan is disapproved, Section 202 indicates that the Secretary must notify the affected State as to the specific areas in which the proposed plan is deficient, and the State must correct all deficiencies within 30 days following receipt of written notice from the Secretary.

FRA uses the collection of information to ensure that States meet the Congressional mandate and devise and implement suitable plans to reduce/eliminate troublingly high numbers of highway-rail grade collisions in their States. FRA reviews grade these crossing action plans and grade crossing action plan revisions to ensure that these plans include the following: (1) Identify specific solutions for improving safety at highway-rail grade crossings, including highway-rail grade crossing closures or grade separations, (2) Focus on crossings that have experienced multiple accidents or are at high risk for such accidents, and (3) Cover a five-year period of time.

Form Number(s): N/A.

Affected Public: States.

Respondent Universe: 10 States.

Frequency of Submission: On occasion.

Reporting Burden:

CFR section | Respondent universe | Total annual responses | Average time per response (hours) | Total annual burden hours
234.11—State Highway-Rail Grade Crossing Action Plans | 10 States | 10 plans | 600 | 6,000
—Revised Grade Crossing Action Plans After FRA Review | 10 States | 5 plans | 80 | 600

Total Responses: 15.

Estimated Total Annual Burden: 6,400 hours.

Type of Request: Re-Approval of a Currently Approved Information Collection.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on May 20, 2013.
Rebecca Pennington,
Chief Financial Officer, Federal Railroad Administration.

[FR Doc. 2013-12436 Filed 5-24-13; 8:45 am]

BILLING CODE 4910-06-P